DEPARTMENT OF HOMELAND SECURITY

Transportation Security Administration

Reports, Forms, and Record Keeping Requirements: Agency Information Collection Activity Under OMB Review; Flight Training for Aliens and Other Designated Individuals; Security Awareness Training for Flight School Employees

AGENCY: Transportation Security Administration (TSA), DHS.

ACTION: Notice.

SUMMARY: This notice announces that TSA has forwarded the Information Collection Request (ICR) abstracted below to the Office of Management and Budget (OMB) for review and clearance of an extension of the currently approved collection under the Paperwork Reduction Act. The ICR describes the nature of the information collection and its expected burden. TSA published a Federal Register notice, with a 60-day comment period soliciting comments, of the following collection of information on November 26, 2004, 69 FR 68952.

DATES: Send your comments by April 29, 2005. A comment to OMB is most effective if OMB receives it within 30 days of publication.

ADDRESSES: Comments may be faxed to the Office of Information and Regulatory Affairs, Office of Management and Budget, Attention: DHS-TSA Desk Officer, at (202) 395-5806.

FOR FURTHER INFORMATION CONTACT: Katrina Wawer, Information Collection Specialist, Office of Transportation Security Policy, TSA-9, Transportation Security Administration, 601 South 12th Street, Arlington, VA 22202-4220; telephone (571) 227-1995; facsimile (571) 227-2594.

SUPPLEMENTARY INFORMATION:

Transportation Security Administration (TSA)

Title: Flight Training for Aliens and Other Designated Individuals; Security Awareness Training for Flight School Employees.

Type of Request: Extension of a currently approved collection.

OMB Control Number: 1652-0021.

Forms(s): NA.

Affected Public: Flight Schools, Candidates for Flight Training, and Flight School Employees.

Abstract: TSA requires FAA-endorsed flight schools to notify TSA when aliens or other individuals designated by TSA apply for flight training, and to provide certain identifying and training information to TSA when for aliens and other individuals designated by TSA who apply for recurrent training, in accordance with 49 CFR part 1552 (69 FR 56324, September 20, 2004). TSA also has established standards relating to the security threat assessments TSA will conduct to determine whether such individuals are a threat to aviation or national security, and thus prohibited from receiving flight training. Finally, TSA has established standards relating to security awareness training for certain flight school employees, to include keeping records of all such training.

Number of Respondents: 23,000.

Estimated Annual Burden Hours: An estimated 342,000 hours annually.

TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including through the use of appropriate automated, electronic, mechanical, or other technological collection techniques or other forms of information technology.

Issued in Arlington, Virginia, on March 24, 2005.
Lisa S. Dean,
Privacy Officer.

[FR Doc. 05-6301 Filed 3-29-05; 8:45 am]

BILLING CODE 4910-62-P